DEPARTMENT OF LABOR

Employment and Training Administration

[TA-W-55,350]

Boden Store Fixtures, Inc. Portland, OR; Notice of Termination of Investigation

Pursuant to Section 221 of the Trade Act of 1974, as amended, an investigation was initiated on August 2, 2004 in response to a petition filed by a company official on behalf of workers at Boden Store Fixtures, Inc., Portland, Oregon.

The petitioner has requested that the petition be withdrawn. Consequently, the investigation has been terminated.

Signed at Washington, DC this 24th day of August, 2004.
Elliott S. Kushner,
Certifying Officer, Division of Trade Adjustment Assistance.

[FR Doc. 04-20872 Filed 9-15-04; 8:45 am]

BILLING CODE 4510-30-M